DEPARTMENT OF COMMERCE

International Trade Administration

[A-570-932]

Certain Steel Threaded Rod From the People's Republic of China: Amended Final Results of Antidumping Duty Administrative Review; 2010-2011

AGENCY: Import Administration, International Trade Administration, Department of Commerce.

DATES: Effective Date: January 22, 2013.

FOR FURTHER INFORMATION CONTACT: Jerry Huang, AD/CVD Operations, Office 9, Import Administration, International Trade Administration, U.S. Department of Commerce, 14th Street and Constitution Avenue NW., Washington DC 20230; telephone: (202) 482-4047.

SUPPLEMENTARY INFORMATION:

Background

On November 9, 2012, the Department of Commerce (“Department”) published in the Federal Register the final results of the administrative review of the antidumping duty order on certain steel threaded rod from the People's Republic of China (“PRC”).¹ On November 13, 2012, Vulcan Threaded Products Inc. (“Petitioner”) filed timely allegations that the Department made various ministerial errors in the Final Results and requested, pursuant to 19 CFR 351.224, that the Department correct the alleged ministerial errors. No other party submitted ministerial error allegations. On November 19, 2012, RMB Fasteners Ltd. and IFI & Morgan Ltd., and their affiliated producer Jiaxing Brother Standard Part Co., Ltd., (collectively “RMB/IFI Group”) submitted rebuttal comments on Petitioner's ministerial error allegations.

¹ See Certain Steel Threaded Rod From the People's Republic of China: Final Results and Final Partial Rescission of Antidumping Duty Administrative Review; 2010-2011, 77 FR 67332 (November 9, 2012) (“Final Results”).

Before the Department could take action on the alleged ministerial errors, RMB/IFI Group filed a summons and complaint with the U.S. Court of International Trade (“CIT”) challenging the Final Results, which vested the CIT with jurisdiction over the administrative proceeding.² On December 28, 2012, the CIT granted the Department leave to publish amended final results to correct certain ministerial errors.³

² See Zenith Elecs. Corp. v. United States, 884 F.2d 556, 561-62 (Fed. Cir. 1989).

³ See Jiaxing Brother Fastener Co., Ltd. v. United States, Court No. 12-00384 (Ct. Int'l Trade December 28, 2012) (order granting the Department leave to publish amended final results correcting ministerial errors no later than February 1, 2013).

Scope of the Order

The merchandise covered by the order is steel threaded rod.⁴ Steel threaded rod is certain threaded rod, bar, or studs, of carbon quality steel, having a solid, circular cross section, of any diameter, in any straight length, that have been forged, turned, cold-drawn, cold-rolled, machine straightened, or otherwise cold-finished, and into which threaded grooves have been applied. Certain steel threaded rod subject to the order is currently classifiable in the Harmonized Tariff Schedule of the United States (“HTSUS”) at subheadings 7318.15.5051, 7318.15.5056, 7318.15.5090, and 7318.15.2095. Although the HTSUS subheading is provided for convenience and customs purposes, the written description of the merchandise is dispositive.⁵

⁴ See Certain Steel Threaded Rod from the People's Republic of China: Notice of Antidumping Duty Order, 74 FR 17154 (April 14, 2009).

⁵ See Memorandum to Paul Piquado, from Christian Marsh, regarding “Second Antidumping Administrative Review of Certain Steel Threaded Rod from the People's Republic of China: Ministerial Error Memorandum,” dated concurrently with this notice (“Ministerial Errors Memo”).

Amended Final Results

Section 751(h) of the Tariff Act of 1930, as amended (“the Act”), defines “ministerial error” as including “errors in addition, subtraction, or other arithmetic function, clerical errors resulting from inaccurate copying, duplication, or the like, and any other type of unintentional error which the administering authority considers ministerial.” After analyzing Petitioner and RMB/IFI Group's comments, we have determined, in accordance with section 751(h) of the Act and 19 CFR 351.224(e), that we made certain ministerial errors in the final results with respect to our calculation of freight and brokerage charges, as well as not including the cost of packing labor for RMB/IFI Group.⁶

⁶ See Ministerial Errors Memo.

For a detailed discussion of these ministerial errors, as well as the Department's analysis of these errors, see Ministerial Errors Memo. In accordance with section 751(h) of the Act and 19 CFR 351.224(e), we are amending the Final Results of this administrative review of certain steel threaded rod from the PRC. The dumping margins for the period of review for these amended final results are as follows:

Exporter | Weighted-average margin (percent)
RMB Fasteners Ltd., and IFI & Morgan Ltd. (“RMB/IFI Group”) | 21.15
PRC-wide Entity | 206.00

These amended final results and notice are issued and published in accordance with sections 751(h), and 777(i)(1) of the Act, and 19 CFR 351.224(e).

Dated: January 14, 2013.
Paul Piquado,
Assistant Secretary for Import Administration.

[FR Doc. 2013-01177 Filed 1-18-13; 8:45 am]

BILLING CODE 3510-DS-P